DEPARTMENT OF HOMELAND SECURITY

Coast Guard

[Docket No. USCG-2018-0278]

Notice of Policy Implementing the 2016 Amendments to STCW in Support of the Polar Code

AGENCY: Coast Guard, DHS.

ACTION: Notice of policy; request for comments.

SUMMARY: The Coast Guard is announcing the availability of CG-MMC Policy Letter No. 02-18 titled “Guidelines for Qualifications of Personnel for Issuing STCW Endorsements for Basic and Advanced Polar Code Operations.” This policy provides guidance for the issuance of Merchant Mariner Credential endorsements in accordance with the International Convention on Standards of Training, Certification and Watchkeeping for Seafarers, 1978, as amended, for Basic and Advanced Polar Code Operations. This policy is effective today, but the Coast Guard requests public comments on it.

DATES: This policy is effective on June 22, 2018.

Comments and related material must be received by the Coast Guard on or before September 20, 2018.

ADDRESSES: Policy Letter No. 02-18 is available in docket number USCG-2018-0278 on http://www.regulations.gov. You may also submit comments identified at that same online docket. See the “Public Participation and Request for Comments” portion of the SUPPLEMENTARY INFORMATION section for further instructions on submitting comments.

FOR FURTHER INFORMATION CONTACT: For information about this policy, contact Cathleen Mauro CG-MMC-1 by phone at (202) 372-1449 or by email at Cathleen.B.Mauro@uscg,mil.

SUPPLEMENTARY INFORMATION: The International Maritime Organization (IMO) adopted the International Code for Ships Operating in Polar Waters, commonly referred to as the Polar Code, to address safety and environmental requirements for ships and the level of training required for deck officers serving on them. The Polar Code came into force on January 1, 2017.

The International Convention on Standards of Training, Certification and Watchkeeping for Seafarers, 1978, as amended, (STCW) Convention and Code is the instrument that provides the international standards for seafarer training. Through the work of the IMO's Sub-committee on Human Element, Training and Watchkeeping, amendments to the STCW Convention and Code were developed to define the training requirements supporting the implementation of the Polar Code. These amendments provide minimum standards of competence, sea service and training requirements for certification at the basic and advanced levels. They also contain transitional provisions for mariners with experience operating in polar waters to meet the new requirements. These amendments enter into force on July 1, 2018. After this date, deck officers on ships operating in polar waters will be required to have a Merchant Mariner Credential (MMC) endorsement in Basic or Advanced Polar Code operations.

To address the gap between the time the Polar Code entered into force (January 2017) and the time the supporting STCW amendments enter into force (July 2018), the Coast Guard provided CG-OES Policy Letter No. 01-16, “Guidelines for Training of Personnel on Ships Subject to the Polar Code” (81 FR 7552, Feb. 12, 2016).

CG-OES Policy Letter No. 01-16 was an interim measure to ensure there would be sufficiently trained U.S. mariners by the time the Polar Code entered into force. The Coast Guard did not issue endorsements to mariners who completed training in accordance with that policy.

Cognizant of the approaching date that the STCW amendments enter into force, the Coast Guard will issue STCW endorsements in Basic and Advanced Polar Code Operations to mariners who have voluntarily fulfilled the STCW requirements and who request the endorsement. CG-MMC policy letter No. 02-18 provides information on how to request the endorsement. These endorsements are not currently mandated by Coast Guard regulation; however, since the United States is signatory to the STCW Convention, vessel owners and operators should be aware that their vessels are subject to foreign port state control actions including detention if mariners are not compliant with the STCW Convention and Code.

The policy letter is effective today, and the National Maritime Center is now accepting applications for Polar Code Operations endorsements. We request public comments on the policy letter, including the instructions for requesting endorsements, so that we may improve the letter if needed.

Public Participation and Request for Comments

We view public participation as essential to effective policy development, and will consider all comments and material received during the comment period. If you submit a comment, please include the docket number for this action, and indicate the specific section of CG-MMC Policy Letter No. 02-18 to which your comment applies. Please make your comments as specific as possible, and include any applicable supporting data or other information, such as cost information, you may have.

We encourage you to submit comments through the Federal eRulemaking Portal at http://www.regulations.gov, using the instructions on that website. If your material cannot be submitted using http://www.regulations.gov, contact the person in the FOR FURTHER INFORMATION CONTACT section of this document for alternate instructions. Additionally, if you go to the online docket and sign up for email alerts, you will be notified when comments are posted or if a final rule is published.

We accept anonymous comments. All comments received will be posted without change to http://www.regulations.gov and will include any personal information you have provided. For more about privacy and the docket, visit http://www.regulations.gov/privacyNotice.

Authority: We issue this notice of policy availability under the authority of 5 U.S.C. 552(a) and 46 U.S.C. 7101.

Dated: June 19, 2018.
Jeffrey G. Lantz,
Director of Commercial Regulations and Standards.

[FR Doc. 2018-13465 Filed 6-21-18; 8:45 am]

BILLING CODE 9110-04-P